DEPARTMENT OF THE TREASURY

Internal Revenue Service

Proposed Collection; Comment Request for Regulation Project

AGENCY: Internal Revenue Service (IRS), Treasury.

ACTION: Notice and request for comments.

SUMMARY: The Internal Revenue Service, as part of its continuing effort to reduce paperwork and respondent burden, invites the general public and other Federal agencies to take this opportunity to comment on continuing information collections, as required by the Paperwork Reduction Act of 1995. The IRS is soliciting comments concerning mortgage interest and reporting requirements for recipients of points paid on residential mortgages.

DATES: Written comments should be received on or before July 30, 2019 to be assured of consideration.

ADDRESSES: Direct all written comments to Laurie Brimmer, Internal Revenue Service, Room 6529, 1111 Constitution Avenue NW, Washington, DC 20224.

FOR FURTHER INFORMATION CONTACT: Requests for additional information or copies of the form should be directed to Christina Leeper at (737) 800-7783, at Internal Revenue Service, 3651 S International Highway 35, Austin, TX 78741, or through the internet, at Christina.E.leeper@irs.gov.

SUPPLEMENTARY INFORMATION:

Title: Reporting Requirements for Recipients of Points Paid on Residential Mortgages and Mortgage Interest Statement.

OMB Number: 1545-1380.

Form Number: Form 1098.

Regulation Project Number: TD 8571.

Abstract: The regulation requires the reporting of certain information relating to payments of mortgage interest. The form is used to report $600 or more of mortgage interest received from an individual in the course of the mortgagor's trade or business. Taxpayers must separately state on the form the amount of points and the amount of interest (other than points) received during the taxable year on a single mortgage and must provide to the payer of the points a separate statement setting forth the information being reported to the IRS. Current Actions: There are no changes to the form or existing regulation, however the agency has updated the number of respondent estimates based on current data.

Type of Review: Revision of a currently approved collection.

Affected Public: Business or other for-profit organizations.

Estimated Number of Respondents: 80,650,960.

Estimated Time per Respondent: .23 hours.

Estimated Total Annual Burden Hours: 20,131,656.

The following paragraph applies to all of the collections of information covered by this notice.

An agency may not conduct or sponsor, and a person is not required to respond to, a collection of information unless the collection of information displays a valid OMB control number. Books or records relating to a collection of information must be retained as long as their contents may become material in the administration of any internal revenue law. Generally, tax returns and tax return information are confidential, as required by 26 U.S.C. 6103.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: May 28, 2019.
Laurie Brimmer,
Senior Tax Analyst.

[FR Doc. 2019-11377 Filed 5-30-19; 8:45 am]

BILLING CODE 4830-01-P